NUCLEAR REGULATORY COMMISSION

[Docket No. 50-271; NRC-2011-0067]

Entergy Nuclear Operations, Inc.; Vermont Yankee Nuclear Power Station; Notice of Issuance of Renewed Facility Operating License No. DPR-28 for an Additional 20-Year Period; Record of Decision

Notice is hereby given that the U.S. Nuclear Regulatory Commission (NRC of the Commission) has issued Renewed Facility Operating License No. DPR-28 to Entergy Nuclear Vermont Yankee, LLC (Entergy VY), and Entergy Nuclear Operations, Inc. (ENO), (licensee), the operator of the Vermont Yankee Nuclear Power Station (VYNPS). Renewed Facility Operating License No. DPR-28 authorizes operation of VYNPS by the licensee at reactor core power levels not in excess of 1912 megawatts thermal (650 megawatts electric), in accordance with the provisions of the VYNPS renewed license and its technical specifications.

The notice also serves as the record of decision for the renewal of Facility Operating License No. DPR-28, consistent with Title 10 of the Code of Federal Regulations Section 51.103 (10 CFR 51.103). As discussed in the final supplemental environmental impact statement for VYNPS, dated August 2007, the Commission has considered a range of reasonable alternatives that included the no-action alternative. The factors considered in the record of decision can be found in the supplemental environmental impact statement (SEIS) for VYNPS.

VYNPS is a boiling water reactor located five miles south of Brattleboro, Vermont. The application for the renewed license complied with the standards and requirements of the Atomic Energy Act of 1954, as amended (the Act), and the Commission's regulations. As required by the Act and the Commission's regulations in 10 CFR chapter 1, the Commission has made appropriate findings, which are set forth in the renewed license. Prior public notice of the Commission considering the license renewal application (LRA) and of an opportunity for a hearing regarding the LRA was published in the Federal Register on March 27, 2006 (71 FR 15220).

For further details with respect to this action, see: (1) Entergy VY and ENO, LRA for VYNPS dated January 25, 2006, as supplemented by letters dated through February 21, 2008; (2) the Commission's safety evaluation report (SER) (NUREG-1907), published in May 2008; (3) Supplements 1 and 2 to the SER, published in September 2009 and March 2011; (4) the licensee's updated safety analysis report; and (5) the Commission's final environmental impact statement (NUREG-1437, Supplement 30), for VYNPS, published on August 1, 2007. These documents are available at the NRC's Public Document Room, One White Flint North, 11555 Rockville Pike, Rockville, Maryland 20852, and can be viewed from the NRC Public Electronic Reading Room at http://www.nrc.gov/reading-rm/adams.html.

Copies of the Renewed Facility Operating License No. DPR-28, may be obtained by writing to the U.S. Nuclear Regulatory Commission, Washington, DC 20555-0001, Attention: Director, Division of License Renewal. Copies of the VYNPS SER (NUREG-1907), supplemental SER, and the final environmental impact statement (NUREG-1437, Supplement 30) may be purchased from the National Technical Information Service, U.S. Department of Commerce, Springfield, Virginia 22161 (http://www.ntis.gov), 703-605-6000, or Attention: Superintendent of Documents, U.S. Government Printing Office, P.O. Box 371954, Pittsburgh, Pennsylvania 15250-7954 (http://www.gpoaccess.gov), 202-512-1800. All orders should clearly identify the NRC publication number and the requestor's Government Printing Office deposit account number or VISA or MasterCard number and expiration date.

Dated at Rockville, Maryland, this 21st day of March, 2011.
For the Nuclear Regulatory Commission.
Bo M. Pham,
Chief, Projects Branch 1, Division of License Renewal, Office of Nuclear Reactor Regulation.

[FR Doc. 2011-7218 Filed 3-25-11; 8:45 am]

BILLING CODE 7590-01-P